DEPARTMENT OF COMMERCE

National Oceanic and Atmospheric Administration

[I.D. 030107C]

Atlantic Highly Migratory Species; Exempted Fishing Permits; Extension of Time for Comments

AGENCY: National Marine Fisheries Service (NMFS), National Oceanic and Atmospheric Administration (NOAA), Commerce.

ACTION: Notice; request for an exempted fishing permit; extension of comment period.

SUMMARY: This notice extends the comment period for 14 days on an March 13, 2007, Federal Register notice regarding a request for an exempted fishing permit (EFP) to collect fisheries data in the East Florida Coast and Charleston Bump closed areas. Due to extensive comments received from the public, the Agency is extending the comment period to allow for additional comments to be received prior to making a determination on the application.

DATES: The deadline for the receipt of written comments on the March 13, 2007 (72 FR 11327), notice has been extended from April 11 to no later than 5 p.m. on April 25, 2007.

ADDRESSES: You may submit comments by any of the following methods:

• E-mail: SF1.030107C@noaa.gov. Include in the subject line the following identifier: “I.D. 030107C”.

• Mail: Michael Clark, Highly Migratory Species Management Division (F/SF1), NMFS, 1315 East-West Highway, Silver Spring, MD 20910. Please mark the outside of the envelope “Comments on EFP Application.”

• Fax: (301)713-1917

FOR FURTHER INFORMATION CONTACT: Michael Clark, by phone: (301) 713-2347; fax: (301)713-1917.

SUPPLEMENTARY INFORMATION: EFPs are requested and issued under the authority of the Atlantic Tunas Convention Act (ATCA) (16 U.S.C. 971 et seq.) and the Magnuson-Stevens Fishery Conservation and Management Act (1601 U.S.C. 1801 et seq.), which regulate fishing activities of tunas, swordfish, sharks, and billfish. Regulations at 50 CFR 635.32 govern scientific research activity, exempted fishing, and exempted educational activity with respect to Atlantic Highly Migratory Species (HMS).

On March 13, 2007 (72 FR 11327), NMFS published a notice announcing receipt of an application to conduct fishing activities from Pelagic Longline (PLL) vessels in portions of the East Florida Coast and Charleston Bump closed areas. The objectives of this EFP request have not changed. The applicant states that these data would provide information on circle hook performance, target and bycatch species composition, and allow comparative analysis with historical pelagic longline logbook and observer program data. The applicant states that the goals of these fishing activities are to determine if implementation of new pelagic longline fishing practices justify the resumption of PLL fishing in the selected areas and to catch more of the United States swordfish quota. The proposed activities would occur in Federal waters of the Atlantic Ocean off Florida and South Carolina from the date of issuance through April 2008. NMFS is extending the original comment period by 14 days because of the extensive number of comments received from the public to date and to ensure that all comments may be considered prior to the Agency making a determination on the application.

Authority: 16 U.S.C. 971 et seq. and 16 U.S.C. 1801 et seq.

Dated: April 6, 2007.
Alan D. Risenhoover,
Director, Office of Sustainable Fisheries, National Marine Fisheries Service.

[FR Doc. E7-6876 Filed 4-10-07; 8:45 am]

BILLING CODE 3510-22-S